ENVIRONMENTAL PROTECTION AGENCY

40 CFR Part 81

[EPA-HQ-OAR-2007-0956; FRL-9668-4]

RIN 2060-AO96

Final Rule To Implement the 1997 8-Hour Ozone National Ambient Air Quality Standard: Classification of Areas That Were Initially Classified Under Subpart 1; Revision of the Anti-Backsliding Provisions To Address 1-Hour Contingency Measure Requirements; Deletion of Obsolete 1-Hour Ozone Standard Provision

Correction

In rule document 2012-11232 appearing on pages 28424-28446 in the issue of Monday, May 14, 2012, make the following correction:

§ 81.305 [Corrected]

On page 28443, the table entitled “CALIFORNIA—OZONE [8-Hour Standard]” should read as set forth below:

California—Ozone [8-Hour Standard]
Designated area | Designation ᵃ: Date ¹ | Designation ᵃ: Type | Category/classification: Date ¹ | Category/classification: Type
Amador and Calaveras Cos., CA:
(Central Mountain Cos.)
Amador County |  | Nonattainment | 6/13/12 | Subpart 2/Moderate.
Calaveras County |  | Nonattainment | 6/13/12 | Subpart 2/Moderate.
Chico, CA:
Butte County |  | Nonattainment | 6/13/12 | Subpart 2/Marginal.
Kern County (Eastern Kern), CA
Kern County (part) |  | Nonattainment | 6/13/12 | Subpart 2/Moderate.
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary |  |  |  |
* * * * * * *
Mariposa and Tuolumne Cos., CA:
(Southern Mountain Counties)
Mariposa County |  | Nonattainment | 6/13/12 | Subpart 2/Moderate.
Tuolumne County |  | Nonattainment | 6/13/12 | Subpart 2/Moderate.
San Diego, CA
San Diego County (part)
That portion of San Diego County that excludes the areas listed below: La Posta Areas #1 and #2,ᵇ Cuyapaipe Area,ᵇ Manzanita Area,ᵇ Campo Areas #1 and #2 ᵇ |  | Nonattainment | 6/13/12 | Subpart 2/Moderate.
* * * * * * *
Sutter County (part), CA:
Sutter County (part)
(Sutter Buttes) That portion of the Sutter Buttes mountain range at or above 2,000 feet in elevation |  | Nonattainment | 6/13/12 | Subpart 2/Marginal.
* * * * * * *
Nevada County (Western part), CA
Nevada County (part)
That portion of Nevada County, which lies west of a line, described as follows: beginning at the Nevada-Placer County boundary and running north along the western boundaries of Sections 24, 13, 12, 1, Township 17 North, Range 14 East, Mount Diablo Base and Meridian, and Sections 36, 25, 24, 13, 12, Township 18 North, Range 14 East to the Nevada-Sierra County boundary |  | Nonattainment | 6/13/12 | Subpart 2/Moderate.
* * * * * * *
ᵃ Includes Indian Country located in each county or area, except as otherwise noted.
ᵇ The boundaries for these designated areas are based on coordinates of latitude and longitude derived from EPA Region 9's GIS database and are illustrated in a map entitled “Eastern San Diego County Attainment Areas for the 8-Hour Ozone NAAQS,” dated March 9, 2004, including an attached set of coordinates. The map and attached set of coordinates are available at EPA's Region 9 Air Division office. The designated areas roughly approximate the boundaries of the reservations for these tribes, but their inclusion in this table is intended for CAA planning purposes only and is not intended to be a federal determination of the exact boundaries of the reservations. Also, the specific listing of these tribes in this table does not confer, deny, or withdraw Federal recognition of any of the tribes so listed nor any of the tribes not listed.
¹ This date is June 15, 2004, unless otherwise noted.

[FR Doc. C1-2012-11232 Filed 7-24-12; 8:45 am]

BILLING CODE 1505-01-D